NUCLEAR REGULATORY COMMISSION

[Docket No. 50-483-LR; ASLBP No. 12-919-06-LR-BD01]

Union Electric Company; Establishment of Atomic Safety and Licensing Board

Pursuant to delegation by the Commission dated December 29, 1972, published in the Federal Register, 37 FR 28710 (1972), and the Commission's regulations, see, e.g., 10 CFR 2.104, 2.105, 2.300, 2.309, 2.313, 2.318, and 2.321, notice is hereby given that an Atomic Safety and Licensing Board (Board) is being established to preside over the following proceeding:

Union Electric Company

(Callaway Nuclear Power Plant, Unit 1)

This proceeding involves an application by Union Electric Company to renew for twenty years its operating license for Callaway Nuclear Power Plant, Unit 1, which is located in Callaway County, Missouri. In response to a Notice of Opportunity for Hearing published in the Federal Register on February 24, 2012 (77 FR 11173), a request for hearing and petition to intervene was submitted by the Missouri Coalition for the Environment on April 24, 2012.

The Board is comprised of the following administrative judges: G. Paul Bollwerk, III, Chair, Atomic Safety and Licensing Board Panel, U.S. Nuclear Regulatory Commission, Washington, DC 20555-0001. William J. Froehlich, Atomic Safety and Licensing Board Panel, U.S. Nuclear Regulatory Commission, Washington, DC 20555-0001. Dr. Nicholas G. Trikouros, Atomic Safety and Licensing Board Panel, U.S. Nuclear Regulatory Commission, Washington, DC 20555-0001.

All correspondence, documents, and other materials shall be filed in accordance with the NRC E-Filing rule, which the NRC promulgated in August 2007 (72 FR 49139).

Issued at Rockville, Maryland, May 1, 2012.
E. Roy Hawkens,
Chief Administrative Judge, Atomic Safety and Licensing Board Panel.

[FR Doc. 2012-10925 Filed 5-4-12; 8:45 am]

BILLING CODE 7590-01-P